DEPARTMENT OF THE INTERIOR

National Park Service

[NPS-WASO-NAGPRA-NPS0032393; PPWOCRADN0-PCU00RP14.R50000]

Notice of Inventory Completion: Princeton University, Princeton, NJ; Correction

AGENCY: National Park Service, Interior.

ACTION: Notice; correction.

SUMMARY: Princeton University has corrected an inventory of human remains, published in a Notice of Inventory Completion in the Federal Register on April 1, 2021. This notice corrects the list of Indian Tribes from whose aboriginal land the culturally unidentifiable Native American human remains were removed. Lineal descendants or representatives of any Indian Tribe or Native Hawaiian organization not identified in this notice that wish to request transfer of control of these human remains should submit a written request to Princeton University. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Princeton University at the address in this notice by September 10, 2021.

FOR FURTHER INFORMATION CONTACT: Bryan R. Just, Princeton University Art Museum, Princeton, NJ 08544, telephone (609) 258-8805, email bjust@princeton.edu.

SUPPLEMENTARY INFORMATION: Notice is here given in accordance with the Native American Graves Protection and Repatriation Act (NAGPRA), 25 U.S.C. 3003, of the correction of an inventory of human remains under the control of the Princeton University, Princeton, NJ. The human remains were removed from Henry County, IN.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the list of Indian Tribes from whose aboriginal land the culturally unidentifiable Native American human remains were removed published in a Notice of Inventory Completion in the Federal Register (86 FR 17196-17197, April 1, 2021). That list omitted the Kaw Nation, Oklahoma. Transfer of control of the items in this correction notice has not occurred.

Correction

In the Federal Register (86 FR 17197, April 1, 2021), column 2, paragraph 1, bullet point 6 is corrected by substituting the following sentence:

• According to other authoritative government sources, the land from which the Native American human remains were removed is the aboriginal land of the Absentee-Shawnee Tribe of Indians of Oklahoma; Citizen Potawatomi Nation, Oklahoma; Eastern Shawnee Tribe of Oklahoma; Forest County Potawatomi Community, Wisconsin; Hannahville Indian Community, Michigan; Kaw Nation, Oklahoma; Little Shell Tribe of Chippewa Indians of Montana; Match-e-be-nash-she-wish Band of Pottawatomi Indians of Michigan; Nottawaseppi Huron Band of the Potawatomi, Michigan [previously listed as Huron Potawatomi, Inc.]; Omaha Tribe of Nebraska; Pokagon Band of Potawatomi Indians, Michigan and Indiana; Prairie Band Potawatomi Nation [previously listed as Prairie Band of Potawatomi Nation, Kansas]; and the Shawnee Tribe.

Additional Requestors and Disposition

Lineal descendants or representatives of any Indian Tribe or Native Hawaiian organization not identified in this notice that wish to request transfer of control of these human remains should submit a written request with information in support of the request to Bryan R. Just, Princeton University Art Museum, Princeton, NJ 08544, telephone (609) 258-8805, email bjust@princeton.edu, by September 10, 2021. After that date, if no additional requestors have come forward, transfer of control of the human remains to the Indian Tribes from whose aboriginal land the culturally unidentifiable Native American human remains were removed may proceed.

Princeton University is responsible for notifying The Consulted Tribes, The Invited Tribes and Groups, and the Indian Tribes from whose aboriginal land the culturally unidentifiable Native American human remains were removed that this notice has been published.

Dated: July 28, 2021.
Melanie O'Brien,
Manager, National NAGPRA Program.

[FR Doc. 2021-17062 Filed 8-10-21; 8:45 am]

BILLING CODE 4312-52-P